DEPARTMENT OF LABOR

Employment and Training Administration

[TA-W-58,184]

Georgia-Pacific Corporation Consumer Products Division Day Street Facility, Green Bay, WI; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on November 21, 2005, applicable to workers of Georgia-Pacific Corporation, Consumer Products Division, Green Bay, Wisconsin. The notice was published in the Federal Register on December 15, 2005 (70 FR 74368). The certification was amended on July 11, 2006 to avoid an overlap in worker group coverage. The notice will be published soon in the Federal Register.

The Department, on its own motion, reviewed the certification for workers of the subject firm. The workers are engaged in the production of napkins, towels and tissue and are not separately identifiable by product line.

New findings show that the correct name of the subject firm is identified as the Day Street Facility of the Consumer Products Division of Georgia-Pacific Corporation, Green Bay, Wisconsin.

Accordingly, the Department is again amending this certification to correctly identify the name of the subject firm to read Georgia-Pacific Corporation, Consumer Products Division, Day Street Facility, Green Bay, Wisconsin and to correctly return the impact date to October 12, 2004 as originally stated in the certification determination dated November 21, 2005.

The intent of the Department's certification is to include all workers of subject firm located in Green Bay, Wisconsin who were adversely affect by a shift in production to Mexico.

The amended notice applicable to TA-W-58,184 is hereby issued as follows:

All workers of Georgia-Pacific Corporation, Consumer Products Division, Day Street Facility, Green Bay, Wisconsin, who became totally or partially separated from employment on or after October 12, 2004, through November 21, 2007, are eligible to apply for adjustment assistance under Section 223 of the Trade Act of 1974 and are also eligible to apply for alternative trade adjustment assistance under Section 246 of the Trade Act of 1974.

Signed at Washington, DC this 26th day of July 2006.
Elliott S. Kushner,
Certifying Officer, Division of Trade Adjustment Assistance.

[FR Doc. E6-13260 Filed 8-11-06; 8:45 am]

BILLING CODE 4510-30-P